DEPARTMENT OF TRANSPORTATION

National Highway Traffic Safety Administration

49 CFR Part 571

[Docket No. NHTSA-02-13678]

RIN 2127-AI32

Tire Safety Information

AGENCY: National Highway Traffic Safety Administration (NHTSA), Department of Transportation.

ACTION: Final rule, correcting amendments.

SUMMARY: This document contains corrections to the final rule published on November 18, 2002 (67 FR 69600), that established a new safety standard to improve the information readily available to consumers regarding tires.

DATES: The effective date of this final rule is September 1, 2004. Voluntary compliance is permitted before that date. If you wish to submit a petition for reconsideration of this rule, your petition must be received by August 11, 2003.

FOR FURTHER INFORMATION CONTACT: For technical and policy issues: Ms. Mary Versailles, Office of Planning and Consumer Standards. Telephone: (202) 366-2750. Fax: (202) 493-2290. Mr. Joseph Scott, Office of Crash Avoidance Standards. Telephone: (202) 366-2720. Fax: (202) 366-4329.

For legal issues: Nancy Bell, Attorney Advisor, Office of the Chief Counsel, NCC-112. Telephone: (202) 366-2992. Fax: (202) 366-3820.

All of these persons may be reached at the following address: National Highway Traffic Safety Administration, 400 Seventh Street, SW., Washington, DC 20590.

SUPPLEMENTARY INFORMATION:

Background

The standards that are the subject of these corrections are FMVSS No. 109, New pneumatic tires, FMVSS No. 110, Tire selection and rims for motor vehicles with a gross vehicle weight rating (GVWR) of 4,536 kilograms (10,000 pounds) or less, and FMVSS No. 120, Tire selection and rims for motor vehicles with a GVWR or more than 4,536 kilograms (10,000 pounds). A final rule amending these standards was published in response to the Transportation Recall Enhancement, Accountability, and Documentation (TREAD) Act of 2000 on November 18, 2002 (67 FR 69600). The final rule also established a new Federal Motor Vehicle Safety Standard, FMVSS No. 139, New pneumatic tires for light vehicles. The final rule applies to all new and retreaded tires for use on vehicles with a gross vehicle weight rating (GVWR) of 10,000 pounds or less and to all vehicles with a GVWR of 10,000 pounds or less, except for motorcycles and low speed vehicles. The final rule requires improved labeling of tires to assist consumers in identifying tires that may be the subject of a safety recall. It also requires tire and vehicle manufacturers to provide other consumer information to increase public awareness of the importance and methods of observing motor vehicle tire load limits and maintaining proper tire inflation levels for the safe operation of a motor vehicle.

On June 5, 2003, NHTSA published in the Federal Register (68 FR 33655) a final rule; response in part to petitions for reconsideration which delayed the effective date of the final rule published on November 18, 2002 to September 1, 2004.

Need for Correction

As published, the November 2002 final rule contained errors that need correction. The November 2002 final rule amended the title and application paragraph of FMVSS No. 110 to make it, in its entirety, applicable to all light vehicles. This document corrects the requirement paragraphs so passenger cars must meet the standard in its entirety, while light vehicles other than passenger cars need only meet the labeling requirements.

The November 2002 final rule also amended the title and application paragraphs of FMVSS No. 120 to make it, in its entirety, applicable to all heavy vehicles. This document amends the title and application paragraph so they read the same as they did before that final rule, referring to all vehicles other than passenger cars, regardless of GVWR. Thus, as before that final rule, all vehicles other than passenger cars must meet the standard's performance requirements. The document also amends the FMVSS No. 120 requirement paragraphs so all heavy vehicles other than passenger cars must meet the labeling requirements contained therein.

The tire performance requirements, and their applicability, are addressed in the final rule on tire performance upgrade that is published elsewhere in this issue of the Federal Register. A notice of proposed rulemaking on tire performance upgrade was published on March 5, 2002, at 67 FR 10050.

A March 13, 2003, meeting with General Motors (GM) and a subsequent GM submission to the docket dated March 21, 2003, brought to the agency's attention that regulatory text of the November 2002 final rule, contained in paragraph S2, “Application” of FMVSS No. 110 and paragraph S3, “Application” of FMVSS No. 120, indicated that the entirety of these standards, not only the labeling provisions, would be applicable to all vehicles 10,000 pounds or less GVWR as of the effective date of that final rule. In other words, it indicated that the performance aspects of FMVSS No. 110, formerly applicable only to passenger cars, are applicable to all vehicles of 10,000 pounds or less GVWR.

As stated in the November 2002 final rule, the intent of the agency was to only revise and make applicable to all light vehicles the vehicle labeling provisions of FMVSS No. 110 and 120. The agency is making this clear by amending the regulatory text of FMVSS Nos. 110 and 120 accordingly. Amendments to the performance aspects of FMVSS Nos. 110 and 120 are addressed in the final rule on tire performance upgrade that is published elsewhere in this issue of the Federal Register.

The agency is also taking this opportunity to correct FMVSS No. 109 by moving certain aspects of the application paragraph into the subsequent requirement paragraphs.

Correction of Publication

List of Subjects in 49 CFR Part 571

Imports, Motor vehicle safety, Motor vehicles.

In consideration of the foregoing, 49 CFR part 571 as amended at 67 FR 69623 (November 18, 2002) and at 68 FR 33655 (June 5, 2003) is further amended as follows:

PART 571—FEDERAL MOTOR VEHICLE SAFETY STANDARDS

1. The authority citation for part 571 of title 49 continues to read as follows:

Authority: 49 U.S.C. 322, 30111, 30115, 30117, and 30166; delegation of authority at 49 CFR 1.50.

2. Section 571.109 is amended by revising S2, S4.3, S4.4.1, and S4.4.2 to read as follows:

* * * * *

§ 571.109 Standard 109; New pneumatic tires.

S2. Application. This standard applies to new pneumatic tires for use on passenger cars manufactured after 1948. However, it does not apply to any tire that has been altered so as render impossible its use, or its repair for use, as motor vehicle equipment.

* * * * *

S4.3 Labeling Requirements. Except as provided in S4.3.1 and S4.3.2 of this standard, each tire, except for those certified to comply with S5.5 of § 571.139, shall have permanently molded into or onto both sidewalls, in letters and numerals not less than 0.078 inches high, the information shown in paragraphs S4.3 (a) through (g) of this standard. On at least one sidewall, the information shall be positioned in an area between the maximum section width and bead of the tire, unless the maximum section width of the tire falls between the bead and one-fourth of the distance from the bead to the shoulder of the tire. For tires where the maximum section width falls in that area, locate all required labeling between the bead and a point one-half the distance from the bead to the shoulder of the tire. However, in no case shall the information be positioned on the tire so that it is obstructed by the flange or any rim designated for use with that tire in Standards Nos. 109 and 110 (Sec. 571.109 and Sec. 571.110 of this part).

(a) One size designation, except that equivalent inch and metric size designations may be used;

(b) Maximum permissible inflation pressure;

(c) Maximum load rating;

(d) The generic name of each cord material used in the plies (both sidewall and tread area) of the tire;

(e) Actual number of plies in the sidewall, and the actual number of plies in the tread area if different;

(f) The words “tubeless” or “tube type” as applicable; and

(g) The word “radial” if the tire is a radial ply tire.

* * * * *

S4.4.1 Each manufacturer of tires not certified to comply with S4 of § 571.139 shall ensure that a listing of the rims that may be used with each tire that he produces is provided to the public. A listing compiled in accordance with paragraph (a) of S4.4.1 of this standard need not include dimensional specifications or diagram of a rim if the rim's dimensional specifications and diagram are contained in each listing published in accordance with paragraph (b) of S4.4.1 of this standard. The listing shall be in one of the following forms:

(a) Listed by manufacturer name or brand name in a document furnished to dealers of the manufacturer's tires, to any person upon request, and in duplicate to the Docket Section, National Highway Traffic Safety Administration, 400 Seventh Street SW., Washington, DC 20590; or

(b) Contained in publications, current at the date of manufacture of the tire or any later date, of at least one of the following organizations:

The Tire and Rim Association

The European Tyre and Rim Technical Organisation

Japan Automobile Tire Manufacturers' Association, Inc.

Deutsche Industrie Norm

British Standards Institution

Scandinavian Tire and Rim Organization

The Tyre and Rim Association of Australia

S4.4.2 Information contained in any publication specified in S4.4.1(b) of this standard which lists general categories of tires and rims by size designation, type of construction and/or intended use, shall be considered to be manufacturer's information pursuant to S4.4.1 of this standard for the listed tires and rims, unless the publication itself or specific information provided according to S4.4.1(a) of this standard indicates otherwise.

3. Section 571.110 is amended by revising S4.1 to read as follows:

§ 571.110 Standard No. 110; Tire selection and rims for motor vehicles with a GVWR of 4,536 kilograms (10,000 pounds or less).

* * * * *

S4.1 General.

(a) Passenger cars shall be equipped with tires that meet the requirements of § 571.109, New Pneumatic Tires, except that passenger cars may be equipped with a non-pneumatic spare tire assembly that complies with § 571.129, New Non-Pneumatic Tires for Passenger Cars and S6 and S8 of this standard.

(b) Passenger cars and non-pneumatic spare tires assemblies for use on passenger cars shall comply with S4 through S8 of this standard.

(c) Motor vehicles with a gross vehicle weight rating (GVWR) or 10,000 pounds or less, except for passenger cars, and the non-pneumatic spare tire assemblies for use on those vehicles shall comply with S4.3, S4.3.1, S4.3.2, S4.3.3, S4.3.4, and S7.2(a) of this standard.

4. Section 571.120 is amended by revising its heading, S3 and S5.3 to read as follows:

§ 571.120 Standard No. 120; Tire selection and rims for motor vehicles other than passenger cars.

* * * * *

S.3 Application. This standard applies to multipurpose passenger vehicles, trucks, buses, trailers, and motor cycles, to rims for use on those vehicles, and to non-pneumatic spare tire assemblies for use on those vehicles.

* * * * *

S5.3 Each vehicle with a gross vehicle weight rating (GVWR) of more than 10,000 pounds, and motorcycles, shall show the information specified in S5.3.1 and S5.3.2 and, in the case of a vehicle equipped with a non-pneumatic spare tire, the information specified in S5.3.3, in the English language, lettered in block capitals and numerals not less than 2.4 millimeters high and in the format set forth following this paragraph. This information shall appear either—

(a) After each GAWR listed on the certification label required by § 567.4 or § 567.5 of this chapter; or at the option of the manufacturer,

(b) On the tire information label affixed to the vehicle in the manner, location, and form described in § 567.4 (b) through (f) of this chapter as appropriate of each GVWR-GAWR combination listed on the certification label.

* * * * *

Issued: June 18, 2003.
Stephen R. Kratzke,
Associate Administrator for Rulemaking.

[FR Doc. 03-15875 Filed 6-23-03; 8:45 am]

BILLING CODE 4910-59-P